DEPARTMENT OF THE INTERIOR

National Park Service

[NPS-WASO-NAGPRA-NPS0030627; PPWOCRADN0-PCU00RP14.R50000]

Notice of Inventory Completion: Peabody Museum of Archaeology and Ethnology, Harvard University, Cambridge, MA, and Robert S. Peabody Institute of Archaeology, Andover, MA

AGENCY: National Park Service, Interior.

ACTION: Notice.

SUMMARY: The Peabody Museum of Archaeology and Ethnology, Harvard University and Robert S. Peabody Institute of Archaeology have completed an inventory of human remains and associated funerary objects, in consultation with the appropriate Indian Tribes, and has determined that there is a cultural affiliation between the human remains and associated funerary objects and present-day Indian Tribes. Representatives of any Indian Tribe that believes itself to be culturally affiliated with the human remains and associated funerary objects may contact the Peabody Museum of Archaeology and Ethnology, Harvard University or the Robert S. Peabody Institute of Archaeology. Repatriation of the human remains and associated funerary objects to the Indian Tribes stated below may occur if no additional claimants come forward.

DATES: Representatives of any Indian Tribe that believes it has a cultural affiliation with the human remains and associated funerary objects should contact the Peabody Museum of Archaeology and Ethnology, Harvard University or the Robert S. Peabody Institute of Archaeology at the addresses below by October 19, 2020.

ADDRESSES: Patricia Capone, Peabody Museum of Archaeology and Ethnology, Harvard University, 11 Divinity Avenue, Cambridge, MA 02138, telephone (617) 496-3702; Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains under the control of the Peabody Museum of Archaeology and Ethnology, Harvard University, Cambridge, MA; and of the completion of an inventory of associated funerary objects under the control of the Robert S. Peabody Institute of Archaeology, Andover, MA. The human remains and associated funerary objects were removed from the Taylor Hill site in Wellfleet, Barnstable County, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Peabody Museum of Archaeology and Ethnology professional staff in consultation with representatives of the Wampanoag Repatriation Confederation on behalf of the Mashpee Wampanoag Tribe (previously listed as Mashpee Wampanoag Indian Tribal Council, Inc.); Wampanoag Tribe of Gay Head (Aquinnah); and the Assonet Band of the Wampanoag Nation, a non-federally recognized Indian group.

History and Description of the Remains

In 1945, human remains representing at minimum, three individuals were removed from Taylor Hill in Wellfleet, Barnstable County, MA. These human remains were inadvertently discovered during a construction project on the private property of Roderick Angus. Angus donated the remains to the Museum. No known individuals were identified. The three associated funerary objects are a fragmentary celt, a whetstone, and a mackerel shark tooth are in the custody of the Robert S. Peabody Institute of Archaeology, Andover, MA. A triangular point also from the burial was not located at the Peabody Institute or the Peabody Museum.

Based on artifact characteristics and radiocarbon dating, burials from the Taylor Hill site are dated to the late Middle Woodland period (ca. 1300-1100 B.P.). Close study of these sites in recent years supports a reassessment of Woodland Period cultural continuity in this area of Cape Cod, known as the Outer Cape. Generally, the Middle Woodland Period in Massachusetts is characterized by a partial integration of horticultural activities into a largely hunting-fishing-gathering lifestyle with notably limited evidence for permanent village sites. Inferences made from archeological data indicate that the geographic and social boundaries continued to be fluid in comparison to the rigid political boundaries in place during the Contact Period. Ongoing assessments of archeological data from the Outer Cape, however, indicate that year-round occupation of sites and use of specialized processing sites began there during the Middle Woodland. During this period, the conditions of the Outer Cape became more predictable with the formation of stable marsh and estuary environments. Archeological evidence from the Taylor Hill area specifically demonstrates a related change in settlement patterns and material culture. Residents there took advantage of these environmental conditions in favor of long-term settlement. The year-round exploitation of the environmental diversity of the outer Cape Cod region, both marine and terrestrial, which began in the Middle Woodland period and continued through the Late Woodland and Contact periods, is the hallmark of Outer Cape Wampanoag subsistence patterns. The Middle Woodland inhabitants of the Taylor Hill area, therefore, established a formal connection with the geographic area that continued into later periods. Related to this localized change in subsistence patterns, the mortuary practices of the Taylor Hill area differ from those of Middle Woodland sites in other areas. Generally, Middle Woodland mortuary contexts are not clustered or elaborate. Divergently, Taylor Hill is marked by an unusually high density of burials within an area of 10 square meters and a diversity in mortuary treatment that is apparently based on social hierarchy. In summary, Taylor Hill is a unique area in the Middle Woodland Period of southeastern Massachusetts because of the inhabitants' sedentism and designation of burial areas. These patterns indicate that, unlike other Middle Woodland people in southeastern Massachusetts, the inhabitants of Taylor Hill had developed a particular relationship with the land. It is therefore possible to demonstrate by a preponderance of the evidence that a relationship of shared group identity exists between ancestral Wampanoag people at the Taylor Hill site during the Middle Woodland period and present-day Wampanoag people.

Determinations Made by the Peabody Museum of Archaeology and Ethnology, Harvard University

Officials of the Peabody Museum of Archaeology and Ethnology, Harvard University have determined that:

• Pursuant to 25 U.S.C. 3001(9), the human remains described in this notice represent the physical remains of three individuals of Native American ancestry.

• Pursuant to 25 U.S.C. 3001(3)(A), the three objects in this notice are reasonably believed to have been placed with or near individual human remains at the time of death or later as part of the death rite or ceremony.

• Pursuant to 25 U.S.C. 3001(2), there is a relationship of shared group identity that can be reasonably traced between the Native American human remains and associated funerary objects and the Mashpee Wampanoag Tribe (previously listed as Mashpee Wampanoag Indian Tribal Council, Inc.) and the Wampanoag Tribe of Gay Head (Aquinnah), Indian tribes that represent people of Wampanoag descent.

Additional Requestors and Disposition

Representatives of any Indian Tribe that believes itself to be culturally affiliated with the human remains and associated funerary objects should contact Patricia Capone, Peabody Museum of Archaeology and Ethnology, Harvard University, 11 Divinity Avenue, Cambridge, MA 02138, telephone (617) 496-3702; or Ryan Wheeler, Robert S. Peabody Institute of Archaeology, Phillips Academy, 180 Main Street, Andover, MA 01810, telephone (978) 749-4490, email rwheeler@andover.edu, by October 19, 2020. After that date, if no additional requestors have come forward, transfer of control of the human remains and associated funerary objects to the Mashpee Wampanoag Tribe (previously listed as Mashpee Wampanoag Indian Tribal Council, Inc.) and the Wampanoag Tribe of Gay Head (Aquinnah) may proceed.

The Peabody Museum of Archaeology and Ethnology, Harvard University and Robert S. Peabody Institute of Archaeology are responsible for notifying the Mashpee Wampanoag Tribe (previously listed as Mashpee Wampanoag Indian Tribal Council, Inc.); Wampanoag Tribe of Gay Head (Aquinnah); and the Assonet Band of the Wampanoag Nation, a non-federally recognized Indian group, that this notice has been published.

Dated: September 10, 2020.
Melanie O'Brien,
Manager, National NAGPRA Program.

[FR Doc. 2020-20514 Filed 9-16-20; 8:45 am]

BILLING CODE 4312-52-P